DEPARTMENT OF ENERGY

Floodplain and Wetland Actions: Site Selection for Expansion of the Strategic Petroleum Reserve Announcement

AGENCY: Department of Energy.

ACTION: Notice of Proposed Floodplain and Wetland Actions.

SUMMARY: The Department of Energy (DOE) is preparing an environmental impact statement (EIS) for site selection for expansion of the Strategic Petroleum Reserve, as required by the Energy Policy Act of 2005. Some potential sites for expansion or new development of the Reserve and for pipeline rights-of-way are located in floodplains or wetlands. DOE hereby gives early notice that it will include in the Draft EIS a floodplain and wetland assessment prepared in accordance with the DOE Regulations for Compliance with Floodplain and Wetland Environmental Review Requirements (10 CFR Part 1022) and provides for early public input.

DATES: DOE intends to issue the Draft EIS containing the floodplain and wetland assessment in the near future. Any suggestions related to preparation of the floodplain and wetland assessment would be most helpful if received no later than April 12, 2006.

ADDRESSES: Suggestions or questions may be submitted by any of the following methods, identified by “Notice of Floodplain and Wetland Actions for the SPR EIS” on the subject line, cover sheet, or envelope, respectively:

• E-mail: Donald.Silawsky@hq.doe.gov.

• Fax: (202) 586-4446.

• Mail: Donald Silawsky, Office of Petroleum Reserves (FE-47), U.S. Department of Energy, 1000 Independence Avenue, SW., Washington, DC 20585-0301. Please note that mail may be delayed by anthrax screening.

FOR FURTHER INFORMATION, CONTACT: To receive information on the proposed expansion of the SPR or the floodplain and wetland assessments, or to request a copy of the Draft EIS when it is issued, contact Donald Silawsky by any of the means listed in the ADDRESSES section of this notice, or call (202) 586-1892. Additional information may also be found on the DOE Fossil Energy Web site for “EIS Information for Expanding the Nation's Strategic Petroleum Reserves” at http://www.fe.doe.gov/programs/reserves/spr/expansion-eis.html.

For further information on the DOE NEPA process, please contact: Carol M. Borgstrom, Director, Office of NEPA Policy and Compliance (EH-42), U.S. Department of Energy, 1000 Independence Avenue, SW., Washington, DC 20585-0119; telephone: (202) 586-4600; fax: (202) 586-7031; or leave a toll-free message at: (800) 472-2756.

SUPPLEMENTARY INFORMATION: Background: DOE published a notice of intent to prepare an EIS for site selection for the expansion of the Strategic Petroleum Reserve at 70 FR 52088 on September 1, 2005. In response to conditions following Hurricane Katrina, DOE extended the scoping period through October 28, 2005 (70 FR 56649; September 28, 2005) and held public scoping meetings in Texas, Mississippi, and Louisiana. On October 27, 2005, the Governor of Mississippi requested the Secretary of Energy to include a new site at Bruinsburg Salt Dome in the analysis of environmental impacts. On November 22, 2005 (70 FR 70600), in response to the inclusion of the new site, DOE announced that another public meeting would be held in Mississippi on December 7, 2005, and the public scoping period would be reopened until December 19, 2005.

Locations of Potential Actions in Wetlands and Floodplains

Construction and Operation of Reserves. Candidate sites for expansion of existing Strategic Petroleum Reserve storage capacity are at West Hackberry and Bayou Choctaw, Louisiana, and Big Hill, Texas. Candidate sites for construction of new Strategic Petroleum Reserve storage capacity are at Chacahoula and Clovelly, Louisiana; Richton and Bruinsburg, Mississippi; and Stratton Ridge, Texas. The expansion sites and the candidate construction sites all involve potential actions in floodplains and/or wetlands.

Petroleum Pipelines. The candidate Big Hill, Bayou Choctaw, and West Hackberry expansion sites and the new candidate Chacahoula, Clovelly, Richton, Bruinsburg, and Stratton Ridge sites involve potential construction of crude oil or product pipelines in floodplains and/or wetlands.

Brine Pipelines. The candidate Big Hill and Bayou Choctaw expansion sites and the new candidate Chacahoula, Richton, Bruinsburg, and Stratton Ridge sites involve potential construction of brine pipelines in floodplains and/or wetlands.

Issued in Washington, DC, on March 21, 2006.
Mark J. Matarrese,
NEPA Compliance Officer, Office of Fossil Energy.

[FR Doc. E6-4492 Filed 3-27-06; 8:45 am]

BILLING CODE 6450-01-P